FEDERAL COMMUNICATIONS COMMISSION

[MM Docket No. 96-197]

RIN 3060-AG53

Newspaper/Radio Cross-Ownership Waiver Policy

AGENCY: Federal Communications Commission.

ACTION: Notice; termination of proceeding.

SUMMARY: The Commission terminates this proceeding because it has initiated a new rulemaking proceeding that considers broader issues that subsume those raised in the proceeding being terminated.

DATES: The Commission terminates MM Docket No. 96-197 effective October 18, 2001.

FOR FURTHER INFORMATION CONTACT: Eric J. Bash, (202) 418-2130 or ebash@fcc.gov.

SUPPLEMENTARY INFORMATION: The Commission began this proceeding in 1996 when it released a Notice of Inquiry (NOI) 61 FR 53694 (October 15, 1996) in MM Docket No. 96-197. The NOI asked whether the Commission should change its policies regarding waiver of the newspaper/broadcast cross-ownership rule for newspaper/radio combinations. The Commission now has released a Notice of Proposed Rulemaking (NPRM), 66 FR 50991 (October 5, 2001), that asks whether the Commission should eliminate or modify the newspaper/broadcast cross-ownership rule. As a result, the NPRM seeks comment not just on whether the Commission should change its waiver policies for newspaper/radio combinations, but also on whether the Commission should change its rule and/or waiver policies for newspaper/radio and newspaper/television combinations. The issues raised in the NPRM therefore subsume those raised in the NOI. As a result, the Commission terminates the NOI proceeding. In doing so, the Commission recognizes that it has, in a handful of cases, waived the newspaper/broadcast cross-ownership rule, subject to the outcome of the NOI. All such waivers will now be subject to the outcome of the NPRM.

Ordering Clauses: The Commission terminates MM Docket No. 96-197.

Federal Communications Commission.
Magalie Roman Salas,
Secretary.

[FR Doc. 01-26175 Filed 10-17-01; 8:45 am]

BILLING CODE 6712-01-P